DEPARTMENT OF HOMELAND SECURITY

Federal Emergency Management Agency

44 CFR Part 67

[Docket ID FEMA-2015-0001; Internal Agency Docket No. FEMA-B-1153]

Proposed Flood Elevation Determinations for Mercer County, New Jersey (All Jurisdictions)

AGENCY: Federal Emergency Management Agency, DHS.

ACTION: Proposed rule; withdrawal.

SUMMARY: The Federal Emergency Management Agency (FEMA) is withdrawing its proposed rule concerning proposed flood elevation determinations for Mercer County, New Jersey (All Jurisdictions).

DATES: This withdrawal is effective on September 25, 2015.

ADDRESSES: You may submit comments, identified by Docket No. FEMA-B-1153 to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On November 9, 2010, FEMA published a proposed rule at 75 FR 68740-68741, proposing flood elevation determinations along one or more flooding sources in Mercer County, New Jersey. FEMA is withdrawing the proposed rule because FEMA has issued a Revised Preliminary Flood Insurance Rate Map and Flood Insurance Study report, featuring updated flood hazard information. A Notice of Proposed Flood Hazard Determinations was published in the Federal Register on August 1, 2014 at 79 FR 44848 and in the local newspaper of each affected community following issuance of the Revised Preliminary Flood Insurance Rate Map.

Authority: 42 U.S.C. 4104; 44 CFR 67.4.

Dated: September 9, 2015.
Roy E. Wright,
Deputy Associate Administrator for Insurance and Mitigation, Department of Homeland Security, Federal Emergency Management Agency.

[FR Doc. 2015-24421 Filed 9-24-15; 8:45 am]

BILLING CODE 9110-12-P